DEPARTMENT OF AGRICULTURE

Forest Service

Newspapers Used for Publication of Legal Notices by the Intermountain Region; Utah, Idaho, Nevada, and Wyoming

AGENCY: Forest Service, USDA.

ACTION: Notice.

SUMMARY: This notice lists the newspapers that will be used by the ranger districts, forests and regional office of the Intermountain Region to publish legal notices required under 36 CFR 214, 219, and 218. The intended effect of this action is to inform interested members of the public which newspapers the Forest Service will use to publish notices of proposed actions and notices of decision. This will provide the public with constructive notice of Forest Service proposals and decisions provide information on the procedures to comment, object or appeal, and establish the date that the Forest Service will use to determine if comments or appeals/objection were timely.

DATES: Publication of legal notices in the listed newspapers will begin on or after July 2016. The list of newspapers will remain in effect until June 2017, when another notice will be published in the Federal Register.

FOR FURTHER INFORMATION CONTACT: Kris Rutledge, Regional Appeals/Objection Coordinator, Intermountain Region, 324 25th Street, Ogden, UT 84401 and phone (801) 625-5146.

SUPPLEMENTARY INFORMATION: The administrative procedures at 36 CFR 214, 219, and 218 require the Forest Service to publish notices in a newspaper of general circulation. The content of the notices is specified in 36 CFR 214, 219 and 218. In general, the notices will identify: The decision or project, by title or subject matter; the name and title of the official making the decision; how to obtain additional information; and where and how to file comments or appeals/objection. The date the notice is published will be used to establish the official date for the beginning of the comment or appeal/objection period. The newspapers to be used are as follows:

Regional Forester, Intermountain Region

Regional Forester decisions affecting National Forests in Idaho: Idaho Statesman

Regional Forester decisions affecting National Forests in Nevada: Reno Gazette-Journal

Regional Forester decisions affecting National Forests in Wyoming: Casper Star-Tribune

Regional Forester decisions affecting National Forests in Utah: Salt Lake Tribune

Regional Forester decisions that affect all National Forests in the Intermountain Region: Salt Lake Tribune

Ashley National Forest

Ashley Forest Supervisor decisions: Vernal Express

District Ranger decisions for Duchesne, Roosevelt: Uintah Basin Standard

Flaming Gorge District Ranger for decisions affecting Wyoming: Rocket Miner

Flaming Gorge and Vernal District Ranger for decisions affecting Utah: Vernal Express

Boise National Forest

Boise Forest Supervisor decisions: Idaho Statesman

Cascade District Ranger decisions: The Star-News

Emmett District Ranger decisions: Messenger-Index

District Ranger decisions for Idaho City and Mountain Home: Idaho Statesman

Lowman District Ranger decisions: Idaho World

Bridger-Teton National Forest

Bridger-Teton Forest Supervisor and District Ranger decisions: Casper Star-Tribune

Caribou-Targhee National Forest

Caribou-Targhee Forest Supervisor decisions for the Caribou portion: Idaho State Journal

Caribou-Targhee Forest Supervisor decisions for the Targhee portion: Post Register

District Ranger decisions for Ashton, Dubois, Island Park, Palisades and Teton Basin: Post Register

District Ranger decisions for Montpelier, Soda Springs and Westside: Idaho State Journal

Dixie National Forest

Dixie Forest Supervisor decisions: The Spectrum

District Ranger decisions for Cedar City, Escalante, Pine Valley and Powell: The Spectrum.

Fremont (formerly Teasdale) District Ranger decisions: Richfield Reaper

Fishlake National Forest

Fishlake Forest Supervisor and District Ranger decisions: Richfield Reaper

Humboldt-Toiyabe National Forest

Humboldt-Toiyabe Forest Supervisor decisions that encompass all or portions of both the Humboldt and Toiyabe National Forests: Reno Gazette-Journal

Humboldt-Toiyabe Forest Supervisor decisions for the Humboldt portion: Elko Daily Free Press

Humboldt-Toiyabe Forest Supervisor decisions for the Toiyabe portion: Reno Gazette-Journal

Austin District Ranger decisions: The Battle Mountain Bugle

Bridgeport and Carson District Ranger decisions: Reno Gazette-Journal

Ely District Ranger decisions: The Ely Times

District Ranger decisions for Jarbidge, Mountain City and Ruby Mountains: Elko Daily Free Press

Santa Rosa District Ranger decisions: Humboldt Sun

Spring Mountains National Recreation Area District Ranger decisions: Las Vegas Review Journal

Tonopah District Ranger decisions: Tonopah Times Bonanza-Goldfield News

Manti-La Sal National Forest

Manti-La Sal Forest Supervisor decisions: Sun Advocate

Ferron District Ranger decisions: Emery County Progress

Moab District Ranger decisions: Times Independent

Monticello District Ranger decisions: San Juan Record

Price District Ranger decisions: Sun Advocate

Sanpete District Ranger decisions: Sanpete Messenger

Payette National Forest

Payette Forest Supervisor decisions: Idaho Statesman

Council District Ranger decisions: Adams County Record

District Ranger decisions for Krassel, McCall and New Meadows: Star News

Weiser District Ranger decisions: Signal American

Salmon-Challis National Forest

Salmon-Challis Forest Supervisor decisions for the Salmon portion: The Recorder-Herald

Salmon-Challis Forest Supervisor decisions for the Challis portion: The Challis Messenger

District Ranger decisions for Lost River, Middle Fork and Challis-Yankee Fork: The Challis Messenger

District Ranger decisions for Leadore, North Fork and Salmon-Cobalt: The Recorder-Herald

Sawtooth National Forest

Sawtooth Forest Supervisor decisions: The Times News

District Ranger decisions for Fairfield and Minidoka: The Times News

Ketchum District Ranger decisions: Idaho Mountain Express

Sawtooth National Recreation Area: The Challis Messenger

Uinta-Wasatch-Cache National Forest

Forest Supervisor decisions for the Uinta portion, including the Vernon Unit: Provo Daily Herald

Forest Supervisor decisions for the Wasatch-Cache portion: Salt Lake Tribune

Forest Supervisor decisions for the entire Uinta-Wasatch-Cache: Salt Lake Tribune

District Ranger decisions for the Heber-Kamas, Pleasant Grove and Spanish Fork Ranger Districts: Provo Daily Herald

District Ranger decisions for Evanston and Mountain View: Uinta County Herald

District Ranger decisions for Salt Lake: Salt Lake Tribune

District Ranger decisions for Logan: Logan Herald Journal

District Ranger decisions for Ogden: Standard Examiner

Dated: July 13, 2016.
Mary Farnsworth,
Acting Deputy Regional Forester.

[FR Doc. 2016-18961 Filed 8-9-16; 8:45 am]

BILLING CODE 3410-11-P